DEPARTMENT OF THE TREASURY

Submission for OMB Review; Comment Request

August 17, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 24, 2001 to be assured of consideration.

Internal Revenue Service (IRS)

OMB Number: 1545-0085.

Form Number: IRS Form 1040A and Schedules 1, 2, 3, and EIC.

Type of Review: Revision.

Title: U.S. Individual Income Tax Return.

Description: This form is used by individuals to report their income subject to income tax and to compute their correct tax liability. The data are used to verify that the income reported on the form is correct and are also for statistical use.

Respondents: Individuals or households.

Estimated Number of Respondents/Recordkeepers: 29,434,276.

Estimated Burden Hours Per Respondent/Recordkeeper:

Form/schedule | Recordkeeping | Learning about the law or the form | Preparing the form | Copying, assembling, and sending the form
Form 1040A | 1 hr., 10 min | 3 hr., 9 min | 5 hr., 15 min | 34 min.
Schedule 1 | 19 min | 4 min | 13 min | 20 min.
Schedule 2 | 33 min | 10 min | 52 min | 31 min.
Schedule 3 | 13min | 14 min | 28 min | 34 min.
Schedule EIC | 0 min | 1 min | 13 min | 20 min.

Frequency of Response: Annually.

Estimated Total Reporting/Recordkeeping Burden: 303,833,720 hours.

Clearance Officer: Garrick Shear, Internal Revenue Service, Room 5244, 1111 Constitution Avenue, NW., Washington, DC 20224

OMB Reviewer: Alexander T. Hunt, Office of Management and Budget, Room 10202, New Executive Office Building, Washington, DC 20503; phone, (202) 395-7860.

Lois K. Holland,
Departmental Reports, Management Officer.

[FR Doc. 01-21366 Filed 8-23-01; 8:45 am]

BILLING CODE 4830-01-P